DEPARTMENT OF ENERGY

Federal Energy Regulatory Commission

[Docket No. ER11-4628-000]

PJM Interconnection, L.L.C.; Notice Establishing Post-Staff Technical Conference Comment Period

As indicated in the February 2, 2012 Supplement Notice, Supplemental Notice For Staff Technical Conference, in the above-captioned proceeding,¹ this notice establishes the due date for comments on the staff technical conference held on February 14, 2012 as 15 days from the date of the conference, or Wednesday, February 29, 2012. Reply comments are due seven days later on Wednesday, March 7, 2012.

¹ Supplement Notice, Supplemental Notice For Staff Technical Conference, issued February 2, 2012.

Dated: February 14, 2012.
Kimberly D. Bose,
Secretary.

[FR Doc. 2012-4011 Filed 2-21-12; 8:45 am]

BILLING CODE 6717-01-P